DEPARTMENT OF THE TREASURY

Submission for OMB Review; Comment Request

September 8, 2009.

The Department of Treasury will submit the following public information collection requirement(s) to OMB for review and clearance under the Paperwork Reduction Act of 1995, Public Law 104-13 on or after the date of publication of this notice. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before October 14, 2009 to be assured of consideration.

Internal Revenue Service

OMB Number: 1545-0046.

Type of Review: Revision.

Form: 982.

Title: Reduction of Tax Attributes Due to Discharge of Indebtedness (and section 1082 Basis Adjustment).

Description: Internal Revenue Code section 108 allows taxpayers to exclude from gross income amounts attributable to discharge of indebtedness in title 11 cases, insolvency, or qualified farm indebtedness. Code section 1081(b) allows corporations to exclude from gross income amounts attributable to certain transfers of property. The data used to verify adjustments to basis of property and reduction of tax attributes.

Respondents: Businesses or other for-profits.

Estimated Total Burden Hours: 7,491 hours.

OMB Number: 1545-0144.

Type of Review: Revision.

Form: 2438.

Title: Undistributed Capital Gains Tax Return.

Description: Form 2438 is used by regulated investment companies to figure capital gains tax on undistributed capital gains designated under IRC section 852(b)3(D). IRS uses this information to determine the correct tax.

Respondents: Businesses or other for-profits.

Estimated Total Burden Hours: 976 hours.

OMB Number: 1545-2005.

Type of Review: Extension.

Title: Restaurant Tips —Attributed Tip Income Program (ATIP).

Description: This revenue procedure sets forth the requirements for participating in the Attributed Tip Income Program (ATIP). ATIP provides benefits to employers and employees similar to those offered under previous tip reporting agreements without requiring one-on-one meetings with the Service to determine tip rates or eligibility.

Respondents: Businesses or other for-profits.

Estimated Total Burden Hours: 6,100 hours.

OMB Number: 1545-1543.

Type of Review: Extension.

Title: Revenue Procedure 97-29 Model Amendments and Prototype Program for SIMPLE IRAs.

Description: The revenue procedure provides guidance to drafters of prototype SIMPLE IRAs on obtaining opinion letter and provides permissive amendments to sponsors of non SIMPLE IRAs.

Respondents: Businesses or other for-profits.

Estimated Total Burden Hours: 25,870 hours.

OMB Number: 1545-1809.

Type of Review: Extension.

Form: 8882.

Title: Credit for Employer-Provided Child Care Facilities and Services.

Description: Qualified employers use Form 8882 to request a credit for employer-provided child care facilities and services. Section 45F provides credit based on costs incurred by an employer in providing childcare facilities and resource and referral services. The credit is 25% of the qualified childcare expenditures plus 10% of the qualified childcare resource and referral expenditures for the tax year, up to a maximum credit of $150,000 per tax year.

Respondents: Businesses or other for-profits.

Estimated Total Burden Hours: 2,459,998 hours.

Clearance Officer: R. Joseph Durbala (202) 622-3634. Internal Revenue Service, Room 6516, 1111 Constitution Avenue, NW., Washington, DC 20224.

OMB Reviewer: Shagufta Ahmed (202) 395-7873. Office of Management and Budget, Room 10235, New Executive Office Building, Washington, DC 20503.

Celina Elphage,
Treasury PRA Clearance Officer.

[FR Doc. E9-21983 Filed 9-11-09; 8:45 am]

BILLING CODE 4830-01-P